DEPARTMENT OF AGRICULTURE

Rural Utilities Service

Basin Electric Power Cooperative: Notice of Intent To Hold Public Scoping Meetings and Prepare an Environmental Assessment

AGENCY: Rural Utilities Service, USDA.

ACTION: Notice of Intent to hold public scoping meetings and prepare an Environmental Assessment (EA).

SUMMARY: The Rural Utilities Service (RUS) intends to hold public scoping meetings and prepare an Environmental Assessment with Scoping (EA) to meet its responsibilities under the National Environmental Policy Act (NEPA) and 7 CFR part 1794 in connection with potential impacts related to a proposed project by Basin Electric Power Cooperative (Basin Electric). The proposed Big Bend to Witten Transmission Line Project (proposed action) consists of an approximately 70-mile long 230-kV single-circuit transmission line, a new Western Area Power Administration (Western) substation called Lower Brule Substation, an addition to the existing Witten Substation, and approximately two miles of 230-kV double-circuit transmission line between Big Bend Dam and the new Lower Brule Substation. It is anticipated that some communication facility additions or enhancements may be necessary for the project including radio towers and buildings at Lower Brule Substation, Witten Substation, and one or two intermediate sites. Basin Electric is requesting RUS financial assistance for the proposed action.

DATES: RUS will conduct public scoping meetings in an open house format to provide information and solicit comments for the preparation of the EA. The scoping meetings will be held on the following dates: The American Legion Post 179, 109 North 5th Avenue, Reliance, SD, on Tuesday April 26, 2011, 4-7 p.m.; The Holiday Inn Express and Suites, 1360 East Highway 44, Winner, SD, on Wednesday April 27, 2011, 4-7 p.m.

ADDRESSES: To send comments or request additional information, contact: Mr. Richard Fristik, Senior Environmental Protection Specialist, USDA, Rural Utilities Service, 1400 Independence Avenue, SW., Stop 1571, Washington, DC 20250-1571. Telephone: (202) 720-5093 or e-mail: richard.fristik@wdc.usda.gov.

A Macro Corridor and Alternative Evaluation Study has been prepared for the proposed project. The document is available for public review prior to and during the public scoping meetings. The report is available at the RUS address provided in this notice and on the agency's Web site at: http://www.usda.gov/rus/water/ees/ea.htm, the offices of Basin Electric and the following repositories:

Kennebec Public Library, 203 S Main, Kennebec, SD 57544

Tripp County Library—Grossenburg Memorial, 442 Monroe Street, Winner, SD 57580

SUPPLEMENTARY INFORMATION: The network transmission system in South Dakota is not able to accommodate projected load growth by 2014. The major impact is the addition of the pumping station loads associated with the proposed Keystone XL pipeline. Seven pumping stations are proposed to be located in South Dakota. The two pumping stations to be connected to the Witten Substation and Gregory Substation would have a large impact on the network transmission system. These substations are located in a relatively remote area from a network transmission perspective and therefore do not have a strong redundant transmission connection. The existing Western 115-kV line between the Mission Substation and the Fort Randall Substation is not able to reliably accommodate the ultimate pump station build-out load level. An outage of the Fort Randall to Gregory 115-kV line would result in operating voltage criteria violations in the areas of Mission and Gregory, SD. The addition of the Big Bend to Witten 230-kV transmission line would provide an increase in the load serving capacity such that the delivery needs of the projected network load can be met in a reliable manner.

The proposed action consists of an approximately 70-mile long 230-kV single circuit transmission line, a new Western Substation called Lower Brule Substation, an addition to the existing Witten Substation, and approximately two miles of 230-kV double-circuit transmission line between Big Bend Dam and the new Lower Brule Substation. Lower Brule Substation would be a new facility, to be built by Western, near Big Bend Dam on the Missouri River. Western would also construct, own, and operate approximately two miles of double circuit transmission line between Big Bend Dam and the new Lower Brule Substation. The Witten Substation is owned by Rosebud Electric Cooperative and is near the town of Witten, SD. Basin Electric would build and own the addition to the Witten Substation. It is anticipated that some communication facility additions or enhancements may be necessary for the project including radio towers and buildings at Lower Brule Substation, Witten Substation, and one or two intermediate sites.

Basin Electric is seeking financing from RUS for its ownership of the proposed project. Before making a decision to provide financing, RUS is required to conduct an environmental review under NEPA in accordance with RUS's Environmental Policies and Procedures (7 CFR Part 1794). Western has agreed to be a cooperating agency in preparation of the EA. Government agencies, private organizations, and the public are invited to participate in the planning and analysis of the proposed action. Representatives from RUS, Western and Basin Electric will be available at the scoping meetings to discuss the environmental review process, describe the proposed action, discuss the scope of environmental issues to be considered, answer questions, and accept comments. Comments regarding the proposed action may be submitted (orally or in writing) at the public scoping meetings or in writing by May 27, 2011, at the Rural Utilities Service address provided in this notice. From information provided in the Macro Corridor and Alternatives Evaluation Study Report, from government agencies, private organizations, and the public, Basin Electric Power Cooperative will prepare an environmental analysis to be submitted to RUS for review. RUS will review the environmental analysis and determine the significance of the impacts of the proposal. If accepted, the document will be adopted as the environmental assessment (EA) for the proposal. RUS's EA would be available for review and comment for 45 days. Should RUS determine, based on the EA for the proposal, that impacts associated with the construction and operation of the proposal would not have a significant environmental impact, it will prepare a finding of no significant impact (FONSI). Public notification of a FONSI would be published in the Federal Register and in newspapers with circulation in the proposal area.

If at any point in the preparation of an EA, RUS determines that the proposed action will have a significant effect on the quality of the human environment, the preparation of an Environmental Impact Statement will be required. Any final action by RUS related to the proposed action will be subject to, and contingent upon, compliance with all relevant Federal, State, and local environmental laws and regulations and completion of the environmental review requirements as prescribed in RUS's Environmental Policies and Procedures.

Dated: April 5, 2011.
Mark S. Plank,
Director, Engineering and Environmental, Staff, Rural Utilities Service.

[FR Doc. 2011-8719 Filed 4-11-11; 8:45 am]

BILLING CODE P